DEPARTMENT OF COMMERCE

National Oceanic and Atmospheric Administration

50 CFR Part 665

[Docket No. 080225267-91393-03]

RIN 0648-AW49

International Fisheries Regulations; Fisheries in the Western Pacific; Pelagic Fisheries; Hawaii-based Shallow-set Longline Fishery; Correction

AGENCY: National Marine Fisheries Service (NMFS), National Oceanic and Atmospheric Administration (NOAA), Commerce.

ACTION: Final rule; correction.

SUMMARY: This document contains a correction to the final regulations that were published in the Federal Register on December 10, 2009, and are effective January 11, 2010. This change ensures that the process is preserved for closing the Hawaii-based shallow-set longline fishery as a result of the fishery reaching interaction limits for sea turtles.

DATES: Effective January 11, 2010.

FOR FURTHER INFORMATION CONTACT: Adam Bailey, NMFS Pacific Islands Region, 808-944-2248.

SUPPLEMENTARY INFORMATION: The final rule published on December 10, 2009, and effective January 11, 2010 (74 FR 65480), revised annual interaction limits for sea turtles, among other actions.

The amendatory instructions that are the subject of this correction refer to § 665.33 in Title 50 of the CFR. In the amendatory instructions in the published final rule (74 FR 65480), instruction 7 revised 50 CFR 665.33(b), relating to the annual limits on sea turtle interactions. The instruction inadvertently omitted paragraph designation “(b)(1)” relating specifically to the interaction limits. Because of the error, paragraph (b)(2), relating to the process for closing the fishery if a sea turtle interaction limit is reached, would be inadvertently deleted when this rule is made effective on January 11, 2010, if not corrected.

This correction makes one change to the amendatory instructions to accurately reflect effective CFR parts as of January 11, 2010. In the amendatory instruction for § 665.33, the phrase, ”...and revise paragraphs (b) and (f) to read as follows:”, is revised to read ”...and revise paragraphs (b)(1) and (f) to read as follows:”.

Correction

Accordingly, in the final rule (FR Doc. No. E9-29444) published on December 10, 2009 (74 FR 65480), on page 65480, column 1, amendatory instruction number 7 is revised to read as follows:

§ 665.33 [Amended]

7. In § 665.33, remove and reserve paragraphs (a), (c), and (e), and revise paragraphs (b)(1) and (f) to read as follows:

Authority: 16 U.S.C. 1801 et seq.

Dated: January 5, 2010.
James W. Balsiger,
Acting Assistant Administrator For Fisheries, National Marine Fisheries Service.

[FR Doc. 2010-138 Filed 1-7-10; 8:45 am]

BILLING CODE 3510-22-S